DEPARTMENT OF TRANSPORTATION

Federal Aviation Administration

14 CFR Part 39

[Docket No. FAA-2022-0599; Project Identifier MCAI-2021-00456-A]

RIN 2120-AA64

Airworthiness Directives; Piaggio Aero Industries S.p.A. Airplanes

AGENCY: Federal Aviation Administration (FAA), DOT.

ACTION: Notice of proposed rulemaking (NPRM).

SUMMARY: The FAA proposes to adopt a new airworthiness directive (AD) for certain Piaggio Aero Industries S.p.A. (Piaggio) Model P-180 airplanes. This proposed AD results from mandatory continuing airworthiness information (MCAI) originated by an aviation authority of another country to identify and correct an unsafe condition on an aviation product. The MCAI identifies the unsafe condition as corrosion in the bottom fuselage area of the cabin compartment due to inner and outer sides of fuselage skin panels of certain airplanes treated with the less effective primer. This proposed AD would require repetitively inspecting the fuselage skin panels, visually inspecting the entire fuselage inner side skin if necessary, and taking any necessary corrective actions. The FAA is proposing this AD to address the unsafe condition on these products.

DATES: The FAA must receive comments on this proposed AD by August 1, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Piaggio Aero Industries S.p.A, P180 Customer Support, via Pionieri e Aviatori d'Italia, snc—16154 Genoa, Italy; phone: +39 331 679 74 93; email: technicalsupport@piaggioaerospace.it. You may view this service information at the FAA, Airworthiness Products Section, Operational Safety Branch, 901 Locust, Kansas City, MO 64106. For information on the availability of this material at the FAA, call (817) 222-5110.

Examining the AD Docket

You may examine the AD docket at https://www.regulations.gov by searching for and locating Docket No. FAA-2022-0599; or in person at Docket Operations between 9 a.m. and 5 p.m., Monday through Friday, except Federal holidays. The AD docket contains this NPRM, the MCAI, any comments received, and other information. The street address for Docket Operations is listed above.

FOR FURTHER INFORMATION CONTACT: Mike Kiesov, Aviation Safety Engineer, FAA, General Aviation & Rotorcraft Section, International Validation Branch, 901 Locust, Room 301, Kansas City, MO 64106; phone: (816) 329-4144; email: mike.kiesov@faa.gov.

SUPPLEMENTARY INFORMATION:

Comments Invited

The FAA invites you to send any written relevant data, views, or arguments about this proposal. Send your comments to an address listed under the ADDRESSES section. Include “Docket No. FAA-2022-0599; Project Identifier MCAI-2021-00456-A” at the beginning of your comments. The most helpful comments reference a specific portion of the proposal, explain the reason for any recommended change, and include supporting data. The FAA will consider all comments received by the closing date and may amend this NPRM because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this AD. Submissions containing CBI should be sent to Mike Kiesov, Aviation Safety Engineer, FAA, General Aviation & Rotorcraft Section, International Validation Branch, 901 Locust, Room 301, Kansas City, MO 64106. Any commentary that the FAA receives which is not specifically designated as CBI will be placed in the public docket for this rulemaking.

Background

The European Union Aviation Safety Agency (EASA), which is the Technical Agent for the Member States of the European Union, has issued EASA AD 2021-0104, dated April 15, 2021 (referred to after this as “the MCAI”), to address the unsafe condition on certain serial-numbered Piaggio Model P.180 airplanes. The MCAI states:

Occurrences were reported where, during routine inspections, diffused corrosion was detected on the fuselage inner side skin in the area of the passenger cabin. Evidence indicates that the presence of undetected (infiltrated or condensed) water, trapped in between the inner surface of fuselage skin panels and the thermo-acoustic insulation panels, could have started a galvanic corrosion phenomenon, mainly in the bottom fuselage area of the cabin compartment. Fuselage skin panels of certain aeroplanes, delivered from 2009 to 2013, were treated with the first type of “chromate-free” primer, chemically not as effective against corrosion when compared to those containing chrome. The phenomenon has been observed on aeroplanes subjected to prolonged inactivity and not stored in a hangar, or those operating in an environment with high humidity and/or frequent heavy precipitation, combined with a possible deterioration of window sealing due to normal aging, wear and tear.

This condition, if not corrected, could affect the structural integrity of the fuselage.

To address this potential unsafe condition, Piaggio published the [Piaggio Service Bulletin (SB) 80-0405, Revision 0, dated March 15, 2021] SB to provide inspection instructions.

For the reason described above, this [EASA] AD requires repetitive inspections of each affected area and, if necessary, an additional visual inspection of the entire fuselage inner side skin and, depending on findings, accomplishment of applicable repair. This [EASA] AD also requires reporting the inspection results to Piaggio.

You may examine the MCAI in the AD docket at https://www.regulations.gov by searching for and locating Docket No. FAA-2022-0599.

Related Service Information Under 1 CFR Part 51

The FAA reviewed Piaggio SB No. 80-0405, Revision 0, dated March 15, 2021. This service information specifies procedures for inspecting the fuselage skin panels and inspecting the full inner fuselage skin. It also specifies repairing or replacing any parts where corrosion is found.

The FAA also reviewed Piaggio SB No. 80-0405, Revision 0, Errata Corrige No. 1, dated March 24, 2021, which addresses discrepancies identified in Piaggio SB No. 80-0405, Revision 0, dated March 15, 2021.

This service information is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI and service information referenced above. The FAA is issuing this NPRM after determining the unsafe condition described previously is likely to exist or develop on other products of the same type design.

Proposed AD Requirements in This NPRM

This proposed AD would require accomplishing the actions specified in the service information already described.

Differences Between This Proposed AD and the MCAI or Service Information

The MCAI allows credit for the fuselage inner skin inspection if previously done using Piaggio Aerospace Temporary Revision No. 332 to Chapter 53-00-00 of Piaggio P.180 Avanti II Maintenance Manual, and this proposed AD would not. The FAA will consider requests for an alternative method of compliance for this under paragraph (h) of this AD.

The MCAI specifies compliance times of 8 months and 12 months depending on when the P-180 airplane maintenance manual 3,600 flight hour or 5-year inspection was accomplished. This proposed AD has a 12-month compliance time for all airplanes because the 3,600 flight hour and 5-year maintenance manual inspections are not required for U.S. operators by FAA regulation.

The service information specifies contacting Piaggio for certain repair instructions, while this proposed AD would require repair using a method approved by the FAA or EASA.

Costs of Compliance

The FAA estimates that this AD, if adopted as proposed, would affect 14 airplanes of U.S. registry.

The FAA estimates the following costs to comply with this proposed AD:

Estimated Costs
Action | Labor cost | Parts cost | Cost per airplane | Cost on U.S. operators
Inspections | Up to 150 work-hours × $85 per hour = $12,750 | $2,360 | Up to $15,110 | Up to $211,540.

The FAA estimates the following costs to do any necessary actions that may be required based on the results of the proposed inspections. The FAA has no way of estimating the number of airplanes that might need these actions:

On-Condition Costs
Action | Labor cost | Parts cost | Cost per airplane
Repair | Up to 80 work-hours × $85 per hour = $6,800 | $1,220 | Up to $8,020.
Replace skin panel | Up to 250 work-hours × $85 per hour = $21,250 | Up to $12,200 | Up to $33,450.
Reporting Results | 1 work-hour × $85 per hour = $85 | Not Applicable | $1,190.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not be a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Piaggio Aero Industries S.p.A.: Docket No. FAA-2022-0599; Project Identifier MCAI-2021-00456-A.

(a) Comments Due Date

The FAA must receive comments on this airworthiness directive (AD) by August 1, 2022.

(b) Affected ADs

None.

(c) Applicability

This AD applies to Piaggio Aero Industries S.p.A. (Piaggio) Model P-180 airplanes, serial numbers (S/N) 1174 through 1214 inclusive and S/N 1218 through 1230 inclusive, certificated in any category.

(d) Subject

Joint Aircraft System Component (JASC) Code 5330, Fuselage Main, Plate/Skin.

(e) Unsafe Condition

This AD was prompted by mandatory continuing airworthiness information (MCAI) originated by an aviation authority of another country to identify and correct an unsafe condition on an aviation product. The MCAI identifies the unsafe condition as corrosion in the bottom fuselage area of the cabin compartment due to inner and outer sides of fuselage skin panels treated with less effective primer. The FAA is issuing this AD to prevent degradation of the structural integrity of the fuselage. This condition, if not addressed, could lead to loss of control of the airplane.

(f) Compliance

Comply with this AD within the compliance times specified, unless already done.

(g) Required Actions

(1) Within 12 months after the effective date of this AD, do the applicable inspections and corrective actions on each fuselage wing skin panel in accordance with the Accomplishment Instructions, Part A, paragraphs (1) through (15) and (17) through (20), or Part A (Alternate Procedure), paragraphs (31) through (37), (41) through (43), (50) through (55), and (57) through (60), in Piaggio Service Bulletin 80-0405, Revision 0, dated March 15, 2021, as corrected by Piaggio Service Bulletin 80-0405, Revision 0, Errata Corrige No. 1, dated March 24, 2021 (Piaggio SB 80-0405), except for the following:

(i) You are not required to contact the manufacturer. Instead, for any repairs, use a method approved by the FAA or the European Union Aviation Safety Agency (EASA).

(ii) Where the steps in Part A or Part A (Alternate Procedure) reference Part B, you must follow the Accomplishment Instructions, Part B, paragraphs (82) through (86), (88), and (104) of Piaggio SB 80-0405.

(2) If, as part of the corrective actions required by paragraph (g)(1) of this AD, you repaired areas of the fuselage skin but did not replace the panels, do the following:

(i) Within 60 days after completing the actions required by paragraph (g)(1) of this AD, report the inspection results, including the information specified in the Confirmation Slip attached to Piaggio SB 80-0405, to Piaggio at technicalsupport@piaggioaerospace.it; and

(ii) Repeat the requirements of paragraph (g)(1) of this AD at intervals not to exceed 660 hours time-in-service (TIS) or 26 months, whichever occurs first.

(3) If, as part of the corrective actions required by paragraph (g)(1) of this AD, you replaced the panels, within 60 days after completing the actions required by paragraph (g)(1) of this AD, report the inspection results, including the information specified in the Confirmation Slip attached to Piaggio SB 80-0405, to Piaggio at technicalsupport@piaggioaerospace.it.

(4) If, during all of the inspections required by paragraph (g)(1) of this AD, there is no corrosion and no primer inconsistencies, no further action is required by this AD.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i)(1) of this AD and email to: 9-AVS-AIR-730-AMOC@faa.gov.

(2) Before using any approved AMOC, notify your appropriate principal inspector, or lacking a principal inspector, the manager of the local flight standards district office/certificate holding district office.

(i) Related Information

(1) For more information about this AD, contact Mike Kiesov, Aviation Safety Engineer, FAA, General Aviation & Rotorcraft Section, International Validation Branch, 901 Locust, Room 301, Kansas City, MO 64106; phone: (816) 329-4144; email: mike.kiesov@faa.gov.

(2) Refer to EASA AD 2021-0104, dated April 15, 2021, for more information. You may view the EASA AD at https://www.regulations.gov in Docket No. FAA-2022-0599.

(3) For service information identified in this AD, contact Piaggio Aero Industries S.p.A, P180 Customer Support, via Pionieri e Aviatori d'Italia, snc—16154 Genoa, Italy; phone: +39 331 679 74 93; email: technicalsupport@piaggioaerospace.it. You may view this service information at the FAA, Airworthiness Products Section, Operational Safety Branch, 901 Locust, Kansas City, MO 64106. For information on the availability of this material at the FAA, call (817) 222-5110.

Issued on June 13, 2022.
Christina Underwood,
Acting Director, Compliance & Airworthiness Division, Aircraft Certification Service.

[FR Doc. 2022-13050 Filed 6-16-22; 8:45 am]

BILLING CODE 4910-13-P